DEPARTMENT OF HEALTH AND HUMAN SERVICES

42 CFR Parts 36 and 36a

Currently Effective Indian Health Service Eligibility Regulations

AGENCY: Indian Health Service.

ACTION: Final Rule; Correction.

SUMMARY: This document corrects a final rule published on October 28, 1999, governing eligibility for services from the Indian Health Service. In that rule, HHS renumbered and suspended the regulations that were, and continue to be under a Congressional moratorium. This correction clarifies that only subparts A through G of part 36 (as it appears in the Code of Federal Regulations edition of October 1, 1999) were intended to be moved to the renumbered part and suspended.

DATES: Effective October 28, 1999.

FOR FURTHER INFORMATION CONTACT: Leslie M. Morris, Director, Division of Regulatory and Legal affairs, Indian Health Service, suite 450, 12300 Twinbrook Parkway, Rockville, MD 20852, telephone: (301) 443-1116. (This is not a toll-free number.).

SUPPLEMENTARY INFORMATION: In the Federal Register of October 28, 1999 (64 FR 58318), The Indian Health Service (we) intended to republish the eligibility regulations that were still in effect due to a Congressional moratorium but which no longer appeared in the Code of Federal Regulations. We also intended to renumber the rules subject to the moratorium from part 36 to part 36a and suspend them. However, in the amendatory instructions, we did not specify that only subparts A through G were being renumbered as part 36a and suspended while subparts H through J remained in the current part 36.

Correction

I. Beginning on page 58318 in the third column, the heading “PART 36—[REDESIGNATED AS PART 36a]’ is removed, and instruction paragraphs 1. through 5. are corrected to read as set forth below and a new instruction 6. is added:

1. A new part 36a, Indian Health, is added and subparts A through G of part 36 are redesignated as Subparts A through G of the new part 36a.

2. The authority of part 36a is added to read as set forth below:

Authority: Sec. 3, 68 Stat. 674; 42 U.S.C. 2003, 42 Stat. 208, sec. 1, 68 Stat. 674; 25 U.S.C. 13, 42 U.S.C. 2001, unless otherwise noted.

3. In newly redesignated Part 36a, in the redesignated section and paragraph listed in the first column below, references to the sections listed in the second column are revised to read as shown in the third column:

Redesignated section | Old section reference | New section reference
36a.12 (a)(2), (a)(3), and (b)(1) | 36.15 | 36a.15
36a.15 (b)(1) | 36.12(a) (1) and (3) | 36a.12(a) (1) and (3)
36a.16(a) | 36.12(a) | 36a.12(a)
36a.33(a) | 36.32(a) | 36a.32(a)
36a. 33(b) | 36.14 | 36a.14
36a.34(b) | 36.14 | 36a.14
36a.42 | 36.41 | 36a.41
36a.43 | 36.41 | 36a.41
36a.53 | 36.51 | 36a.51
36a.53 | 36.54 | 36a.54
36a.56 | 36.54 | 36a.54

4. Redesignated part 36a is suspended indefinitely.

5. The authority of part 36 continues to read as follows:

Authority: 25 U.S.C. 13; sec 3, 68 stat. 674 (42 U.S.C., 2001, 2003); sec. 1, 42 Stat. 208 (25 U.S.C. 13); 42 U.S.C. 2001, unless otherwise noted.

6. New subparts A through G are added to the remaining text of part 36 (Subparts H through J) to read as set forth below.

II. On page 58319, at the bottom of the 1st column, a line of 5 asterisks should appear below the listing for § 36.61 and the authority citation should be removed.

Dated: August 29, 2000.
Brian P. Burns,
Deputy Assistant Secretary for Information and Resource Management.

[FR Doc. 00-22703 Filed 9-5-00; 8:45 am]

BILLING CODE 4160-16-P